DEPARTMENT OF TRANSPORTATION

Office of the Secretary

14 CFR Parts 259 and 261

[Docket No. DOT-OST-2024-0091]

RIN No. 2105-AF15

Family Seating in Air Transportation

AGENCY: Office of the Secretary (OST), Department of Transportation (DOT or the Department).

ACTION: Proposed rule; extension of comment period.

SUMMARY: The U.S. Department of Transportation (Department or DOT) is extending the comment end date for interested persons to submit comments to its proposed rule on Family Seating in Air Transportation from October 8, 2024, to November 7, 2024.

DATES: The comment period for the proposed rule published August 9, 2024, at 89 FR 65272 is extended. Comments should be filed by November 7, 2024.

ADDRESSES: You may file comments identified by the docket number DOT-OST-2024-0091 by any of the following methods:

• Federal eRulemaking Portal: Go to https://www.regulations.gov and follow the online instructions for submitting comments.

• Mail: Docket Management Facility, U.S. Department of Transportation, 1200 New Jersey Ave. SE, West Building Ground Floor, Room W12-140, Washington, DC, 20590-0001.

• Hand Delivery or Courier: West Building Ground Floor, Room W12-140, 1200 New Jersey Ave. SE, Washington, DC, between 9 a.m. and 5 p.m. ET, Monday through Friday, except Federal holidays.

• Fax: (202) 493-2251.

Instructions: You must include the agency name and docket number DOT-OST-2024-0091 or the Regulatory Identification Number (RIN 2105-AF15) for the rulemaking at the beginning of your comment. All comments received will be posted without change to https://www.regulations.gov, including any personal information provided.

Privacy Act: Anyone can search the electronic form of all comments received in any of our dockets by the name of the individual submitting the comment (or signing the comment, if submitted on behalf of an association, business, labor union, etc.). You may review DOT's complete Privacy Act statement in the Federal Register published on April 11, 2000 (65 FR 19477-78), or you may visit https://www.transportation.gov/privacy.

Docket: For access to the docket to read background documents and comments received, go to https://www.regulations.gov or to the street address listed above. Follow the online instructions for accessing the docket.

FOR FURTHER INFORMATION CONTACT: Maegan Johnson, Nicole Smith, or Blane A. Workie, Office of Aviation Consumer Protection, U.S. Department of Transportation, 1200 New Jersey Ave., SE, Washington, DC, 20590, 202-366-9342 (phone), Maegan.johnson@dot.gov, nicole.smith@dot.gov, or blane.workie@dot.gov (email).

SUPPLEMENTARY INFORMATION: On August 9, 2024, the Department published in the Federal Register a Notice of Proposed Rulemaking (NPRM) that proposes to require airlines to seat children aged 13 and under adjacent to at least one accompanying adult at no additional cost beyond the fare, subject to limited exceptions. Under the NPRM, the specific requirements that airlines would be required to follow to ensure a young child is seated adjacent to an accompanying adult at no additional cost differ depending on the carrier's seating method. There are different requirements for an open seating carrier and an assigned seating carrier. However, in both cases, airline that fail to provide family seating as proposed would be required to mitigate the harm to passengers by offering them a choice of rebooking at no additional cost on the next available flight with family seating, transport of the young child or young children and an accompanying adult on the flight without adjacent seats, or a prompt refund of the fare paid for the child and other persons on the same reservation. In addition, the proposal explains that the Department considers family seating to be a basic service that must be included in the advertised fare and seeks comment on what services beyond adjacent family seating should be considered a basic service. The NPRM provided for a comment period of 60 days after publication of the NPRM in the Federal Register, i.e., October 8, 2024.

On August 29, 2024, Airlines for America, the International Air Transport Association, the National Air Carrier Association, and the Regional Airline Association (collectively, “Members”) filed a joint request to extend the public comment period on the family seating NPRM for an additional 60 days. The Members state that additional time is needed to collect data and submit comprehensive comments to help the Department make an informed decision on a final rule. Specifically, the Members assert that the Department has not sufficiently considered the impact of its proposal on foreign airlines which means that the airline industry must collect, analyze, and submit information regarding this impact. According to the Members, this is a significant task that will take time to complete. Furthermore, the Members state that airlines need additional time to fully consider and analyze the proposed procedures for mitigating harm to passengers who are not provided adjacent family seating, including time to determine the proposals impact on their operations and propose potential alternatives that meet the Department's goals but are less disruptive to airlines. The Members also note that the expert report that the Regulatory Impact Analysis (RIA) relied on was placed in the docket two weeks after the NPRM was published which reduced the time available to review this important report and negatively impacted their ability to assess the Department's proposal and its potential impacts and submit well informed comments. Finally, the members point to the Department's request for comments regarding fees charged by airlines for “basic services” as a broad request for which additional time is needed to respond.

On September 3, 2024, Southwest Airlines (Southwest) also filed a request to extend the public comment period on the family seating NPRM for an additional 60 days. In addition to expressing support for the Member's request to extend the comment period, Southwest states in its request that the comment period for the NPRM should be extended because the airline is currently transitioning from an open seating model to a carrier that assigns seat and unlike other carriers must evaluate and comment on both the assigned seating carrier and open seating carrier provisions in the NPRM.

On September 11, 2024, the American Economic Liberties Project, the Consumer Action, the Consumer Federation of America, the National Consumers League, and the U.S. PIRG (collectively “consumer advocacy groups”) filed an opposition to the Members' request for an extension to the public comment period for the family seating NPRM. The consumer advocacy groups urge the Department to stay on its current rulemaking trajectory and argue that an extension is unnecessary since the Department has provided ample time for relevant stakeholders to respond to a proposed rule that has been years in the making, especially since the proposals in the NPRM are modeled after draft legislation that the Department made public before the NPRM was issued.

The Department has carefully considered both requests to extend the comment period on the family seating NPRM filed by the Members and Southwest, and the consumer advocacy groups opposition to an extension request. After considering the arguments presented, the Department has decided to extend the comment period of the proposed rule for 30 days from October 8, 2024, to November 7, 2024. In doing so, the Department acknowledges that the NPRM raises important issues which require in-depth analysis and consideration by stakeholders. At the same time, the Department agrees with the consumer advocacy groups that the proposals in the NPRM are modeled after draft legislation that Department submitted to Congress and should not be a surprise to the stakeholders. The Department believes that granting a 30-day extension of the original 60-day comment period, is sufficient to allow stakeholders to conduct a thorough and careful consideration of all potential impacts and prepare comments. Late-filed comments will be considered to the extent practicable.

Signed in Washington, DC, under authority delegated at 49 CFR 1.27(n).
Subash Iyer,
Acting General Counsel, U.S. Department of Transportation.

[FR Doc. 2024-22632 Filed 10-2-24; 8:45 am]

BILLING CODE 4910-9X-P